DEPARTMENT OF COMMERCE

International Trade Administration

[A-570-863]

Sixth Administrative Review of Honey From the People's Republic of China: Notice of Partial Rescission of Antidumping Duty Administrative Review

AGENCY: Import Administration, International Trade Administration, Department of Commerce.

DATES: Effective Date: June 25, 2008.

FOR FURTHER INFORMATION CONTACT: Catherine Bertrand, AD/CVD Operations, Office 9, Import Administration, International Trade Administration, U.S. Department of Commerce, 14th Street and Constitution Avenue, NW., Washington, DC 20230; telephone-(202) 482-3207.

Background

On January 28, 2008 the Department of Commerce (the “Department”) published a notice of initiation of an administrative review of the antidumping duty order on honey from the People's Republic of China (“PRC”) covering the period December 1, 2006-November 30, 2007. See Initiation of Antidumping and Countervailing Duty Administrative Reviews and Request for Revocation in Part, 73 FR 4829 (January 28, 2008) (“Initiation”).

On June 10, 2007 the American Honey Producers Association and the Sioux Honey Association (the “Petitioners”) withdrew their request for an administrative review for the following twenty-one companies: Anhui Honghui Foodstuff (Group) Co., Ltd., Chengdu Stone Dynasty Art Stone, Eurasia Bee's Products Co., Ltd., Golden Tadco Int'l, Hangzhou Golden Harvest Health Industry Co., Ltd., Hanseatische Nahrungsmittel Fabrik R Import-Export GMBH, Inner Mongolia Altin Bee-Keeping, Jiangsu Kanghong Natural Healthfoods Co., Ltd., Jiangsu Light Industry Products Imp & Exp (Group) Corp., OEI International Inc., Qingdao Aolan Trade Co., Ltd., QHD Sanhai Honey Co., Ltd., Shanghai Bloom International Trading Co., Ltd., Shanghai Foreign Trade Co., Ltd., Shanghai Hui Ai Mal Tose Co., Ltd., Shanghai Taiside Trading Co., Ltd., Sichuan-Dujiangyan Dubao Bee Industrial Co., Ltd., Tianjin Eulia Honey Co., Ltd., Wuhan Bee Healthy Co., Ltd., Wuhan Shino-Food Trade Co., Ltd. and Xinjiang Jinhui Food Co., Ltd. The Petitioners were the only party to request a review of the entries of subject merchandise exported by these companies.

Partial Rescission

Pursuant to 19 CFR 351.213(d)(1), the Secretary will rescind an administrative review, in whole or in part, if a party who requested the review withdraws the request within ninety days of the date of publication of notice of initiation of the requested review.

On April 22, 2008 the Department extended the deadline for withdrawal of request for review. The current deadline is thirty days after the receipt of the last response to the Department's initial antidumping duty questionnaire. The last questionnaire response was received on June 2, 2008; thus, the deadline for withdrawal of request for review is July 1, 2008. Because the Petitioners' withdrawal of requests for review was timely and no other party requested a review of the aforementioned companies, in accordance with 19 CFR 351.213(d)(1), we are rescinding this review with respect to Anhui Honghui Foodstuff (Group) Co., Ltd., Chengdu Stone Dynasty Art Stone, Eurasia Bee's Products Co., Ltd., Golden Tadco Int'l, Hangzhou Golden Harvest Health Industry Co., Ltd., Hanseatische Nahrungsmittel Fabrik R Import-Export GMBH, Inner Mongolia Altin Bee-Keeping, Jiangsu Kanghong Natural Healthfoods Co., Ltd., Jiangsu Light Industry Products Imp & Exp (Group) Corp., OEI International Inc., Qingdao Aolan Trade Co., Ltd., QHD Sanhai Honey Co., Ltd., Shanghai Bloom International Trading Co., Ltd., Shanghai Foreign Trade Co., Ltd., Shanghai Hui Ai Mal Tose Co., Ltd., Shanghai Taiside Trading Co., Ltd., Sichuan-Dujiangyan Dubao Bee Industrial Co., Ltd., Tianjin Eulia Honey Co., Ltd., Wuhan Bee Healthy Co., Ltd., Wuhan Shino-Food Trade Co., Ltd. and Xinjiang Jinhui Food Co., Ltd.

Assessment Rates

The Department will instruct U.S. Customs and Border Protection (“CBP”) to assess antidumping duties on all appropriate entries. For those companies for which this review has been rescinded and which have a separate rate, antidumping duties shall be assessed at rates equal to the cash deposit of estimated antidumping duties required at the time of entry, or withdrawal from warehouse, for consumption, in accordance with 19 CFR 351.212(c)(2). The Department will issue appropriate assessment instructions directly to CBP 15 days after publication of this notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Act and 19 CFR 351.213(d)(4).

Dated: June 18, 2008.
Stephen J. Claeys,
Deputy Assistant Secretary for Import Administration.

[FR Doc. E8-14409 Filed 6-24-08; 8:45 am]

BILLING CODE 3510-DS-P